DEPARTMENT OF AGRICULTURE

Submission for OMB Review; Comment Request

October 4, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: Broadband Initiatives Program—Rural Libraries, Technical Assistance and Satellite Grants.

OMB Control Number: 0572-0145.

Summary of Collection: The American Recovery and Reinvestment Act of 2009 appropriated $2.5 billion of budget authority for establishing the Broadband Initiatives Program (BIP) which may extend loans, grants, and loan/grant combinations to facilitate broadband deployment in rural areas. In its second and final Notice of Funds Availability, Rural Utilities Service (RUS) created three new categories for funding, Rural Libraries, Technical Assistance and Satellite grants. This information collection consists of the required reporting requirements for the BIP for Rural Libraries, Technical Assistance and Satellite Grants.

Need and Use of the Information: Each applicant for a grant will complete one application form. RUS will use the information collected from the application form to evaluate whether an applicant is eligible for funding. RUS also intends to use information collected from the application form to evaluate the applicant's progress toward completion of the objectives for which the funding was obtained.

Recipients of grants will need to submit a detailed list of all projects or activities for which Recovery Act funds were expended or obligated, including (a) the name of the project or activity; (b) a description of the project or activity; (c) an evaluation of the completion status of the project or activity; (d) an estimate of the number of jobs created and the number of jobs retained by the project or activity; and (e) for infrastructure investments made by State and local governments, the purpose, total cost, and rationale of the agency for funding the infrastructure investment with Recovery Act funds. In addition, detailed information on any subcontracts or sub-grants awarded by the Awardee to include the data elements required to comply with the Federal Funding Accountability and Transparency Act of 2006.

Description of Respondents: Business or other for-profit.

Number of Respondents: 22.

Frequency of Responses: Recordkeeping; Reporting: On occasion; Quarterly.

Total Burden Hours: 246.

Charlene Parker,
Departmental Information Collection Clearance Officer.

[FR Doc. 2010-25311 Filed 10-6-10; 8:45 am]

BILLING CODE 3410-15-P